DEPARTMENT OF VETERANS AFFAIRS

[Docket No. VA-2026-VACO-0001]

Notice of Plans To Assess the Current Scientific Literature and Historical Detailed Claims Data Regarding Neurodegenerative Outcomes and Selected Military Environmental Exposures; Annual Sergeant First Class Heath Robinson Honoring Our Promise To Address Comprehensive Toxics (PACT) Act Public Listening Session and Request for Comments

AGENCY: Department of Veterans Affairs.

ACTION: Notice of public comment and listening session.

SUMMARY: The Department of Veterans Affairs (VA) announces its plan to conduct an assessment of the scientific literature and historical claims data regarding the association between military environmental exposure and neurogenerative outcomes. Pursuant to 38 U.S.C. 1172, the Department of Veterans Affairs (VA) announces its plan to designate a technical working group (TWG) to conduct an assessment and development recommendations to VA leadership for formal assessment, pursuant to 38 U.S.C. 1172(d), of the findings from National Academies of Sciences, Engineering, and Medicine (NASEM) review of certain neurodegenerative diseases and military environmental exposures once complete. Additionally, VA is soliciting public comments on the importance of completing this assessment of scientific literature and historical claims data for neurodegenerative diseases and will also hold the annual PACT Act public listening session.

DATES:

Public Comments: Comments must be received by April 13, 2026.

Information Session: VA will hold a public listening session virtually via Webex on Thursday, May 14, 2026, from 1:00 p.m. to 3:00 p.m. Eastern Standard Time (EST). The session will focus on the plans detailed in this Federal Register notice. Registration is required and further information can be found in the Supplementary Information below.

ADDRESSES: You may submit comments through www.regulations.gov under docket VA-2026-VACO-0001. Instructions for accessing agency documents, submitting comments, and viewing the docket, are available on www.regulations.gov under “FAQ.”

FOR FURTHER INFORMATION CONTACT: Dr. Erin Dursa, Veterans Health Administration, (202) 461-7297.

SUPPLEMENTARY INFORMATION: In accordance with 38 U.S.C. 1172, as created by section 202 of the PACT Act of 2022, VA is publishing this notice to inform the public of its plan to assess the findings of NASEM's review of scientific evidence on potential associations between military environmental exposures and neurodegenerative diseases. Neurodegenerative diseases were selected based on continuous monitoring of exposure information from scientific literature, review of media reports, input from veterans, and communications from Congress, in addition to the serious nature of neurodegenerative diseases. Additionally, there is evidence to suggest that certain exposures that are common in the military setting have neurotoxic effects.

Consistent with 38 U.S.C. 1171 through 1176, VA may use NASEM reports or similar scientific literature to conduct scientific assessments and formal evaluations of illnesses and toxic exposures and make determinations regarding presumptions of service connection. NASEM's review is being performed in accordance with 38 U.S.C. 1176, which requires the VA to enter into a 5-year agreement with NASEM to conduct investigations on military exposures and health outcomes. A committee established by NASEM will conduct a review of scientific and medical evidence regarding possible associations between exposures to certain hazards during military service and neurodegenerative diseases. Upon completion of the NASEM review, VA will evaluate the findings to determine whether initiation of a formal evaluation conducted under 38 U.S.C. 1173 is warranted. Any future formal evaluation(s) would result in a recommendation to the Secretary as to whether to establish new presumptions of service connection for purposes of claims for veterans' benefits based on qualifying periods of service related to exposures.

VA entered the contract with NASEM for this study in 2025, and VA will receive quarterly status updates. The NASEM committee will focus on several neurodegenerative diseases, including Parkinson's disease, Alzheimer's disease, motor neuron diseases such as primary lateral sclerosis, myasthenia gravis, peripheral neuropathy, transverse myelitis, neuromyelitis optica, and inclusion body myositis. The committee will investigate whether those neurodegenerative diseases may result from various exposures to hazards during military service, such as pesticides, jet fuels, solvents, heavy metals, per- and polyfluoroalkyl substances, and fine particulate matter.

VA invites input on the NASEM study and any subsequent VA evaluation of that work through public comments or the virtual listening session. During this listening session, VA subject matter experts will listen to public feedback and may ask questions but will not be able to share proposals for specific conditions nor address the merits of any comment provided.

VA also invites input regarding other health outcomes or exposures that would benefit from review for potential association.

VA continues to review and assess information about military environmental exposure incidents, emerging scientific evidence regarding toxic substances, and health outcomes in deployed and non-deployed veteran cohorts. Additionally, active epidemiological surveillance and ongoing monitoring of military exposures in collaboration with the Department of Defense are underway. If those assessments identify a possible association between military environmental exposure and an adverse health outcome, this may lead to additional research or be subject to a Federal Register notice and comment process, as required by 38 U.S.C. 1172. VA will publish other notices of this type as it reviews other potential adverse health conditions and their possible association with military environmental exposures to provide health care, services, and benefits to veterans.

After reviewing comments received in response to this notice and during the public listening session, VA will publish a response to public comments in the Federal Register in accordance with 38 U.S.C. 1172(a)(2)(B). Following publication of NASEM's findings, VA will assess those findings and determine appropriate next steps, which may include developing a recommendation for formal evaluation under 38 U.S.C. 1173, pursuant to 38 U.S.C. 1172(d). If a formal evaluation is commenced, a recommendation with respect to establishing a presumption of service connection must be submitted to the Secretary within 120 days, in accordance with 38 U.S.C. 1173(d). Within 160 days of receiving the recommendation with respect to establishing a presumption of service connection, the Secretary must determine whether a presumption is warranted in accordance with 38 U.S.C. 1174(a). This may include initiating rulemaking to establish new presumptions for some, or all the conditions formally evaluated and/or publishing notice in the Federal Register of any determination that a presumption or presumptions are unwarranted for some or all the conditions that were the subject of the evaluation.

Listening Session

While VA will accept public comments through www.regulations.gov, the listening session aims to allow individuals to share their research, input, and comments on certain adverse health conditions associated with military environmental exposures. Participants can also share their recommendations on other conditions that would benefit from review.

Virtual Listening Session on May 14, 2026: Notice of Plans for the Department of Veterans Affairs to Review Evidence from Future NASEM Findings on Neurodegenerative Diseases and Certain Military Service Exposures. Note: This listening session will have closed captioning available via the WebEx platform. The webinar will be recorded and transcribed.

Registration Link: https://public.govdelivery.com/accounts/USVAVEO/signup/48851.

Registration Information: Individuals interested in attending the listening session must register with Webex. During registration, VA will ask attendees if they want to provide verbal or written feedback, so VA can coordinate enough time for verbal comments. However, verbal participation is not required to complete registration. If you wish to provide verbal or written feedback during the listening session, please register by April 30, 2026, at Noon EST. Individuals who indicate interest in commenting will receive a confirmation message two business days before the session. Individuals who wish to submit materials to VA must do so by April 30, 2026 at Noon EST.

VA will work to accommodate all individuals who wish to comment verbally. However, VA will prioritize those who registered in advance. The time allotted for individuals to comment verbally will depend on the number of registrations. VA will turn off cameras and mute microphones until the presenter's scheduled time to accommodate as many comments as possible. VA will request written submissions if there is not enough time to hear all verbal comments.

Note: During the listening session, VA will not share proposals or address feedback. VA will use suggestions made during the listening session and public comments on VA's plan to improve future evaluations. VA will continue to comply with the requirements of 38 U.S.C. 1172(a) and ensure appropriate public notice and opportunity for participation.

Special Accommodations: Attendees requiring special accommodations should make their requests to VA by contacting the point of contact identified in this notice no later than April 24, 2026, at Noon EST.

Signing Authority

Douglas A. Collins, Secretary of Veterans Affairs, approved this document on December 10, 2025, and authorized the undersigned to sign and submit the document to the Office of the Federal Register for publication electronically as an official document of the Department of Veterans Affairs.

Jennifer Williams,
Alternate Federal Register Liaison Officer, Department of Veterans Affairs.

[FR Doc. 2026-02619 Filed 2-9-26; 8:45 am]

BILLING CODE 8301-01-P